FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201263-003.

Agreement Name: Maersk/MSC/Zim Cooperative Working Agreement.

Parties: Maersk Line A/S; Mediterranean Shipping Company S.A.; and Zim Integrated Shipping Services Ltd.

Filing Party: Wayne Rohde; Cozen O'Connor.

Synopsis: The amendment authorizes the parties to operate an additional service string in the Agreement trade, increase the size of vessels to be deployed on the string, revise the amount of space to be chartered, add a provision on the deployment of extra loaders, and make non-substantive changes to the Agreement.

Proposed Effective Date: 5/22/21.

Location: https://www2.fmc.gov/FMC.Agreements.Web/Public/AgreementHistory/14256.

Dated: April 9, 2021.
Rachel E. Dickon,
Secretary.

[FR Doc. 2021-07644 Filed 4-13-21; 8:45 am]

BILLING CODE 6730-02-P